DEPARTMENT OF COMMERCE

National Oceanic and Atmospheric Administration

RIN 0658-XF568

Pacific Fishery Management Council; Public Meeting

AGENCY: National Marine Fisheries Service (NMFS), National Oceanic and Atmospheric Administration (NOAA), Commerce.

ACTION: Notice; public meeting.

SUMMARY: The Pacific Fishery Management Council's (Pacific Council) Highly Migratory Species Management Team (HMSMT) will hold a meeting, which is open to the public.

DATES: The HMSMT meeting will be on Tuesday, August 8, 2017 to Thursday, August 10, 2017. This meeting will start at 8:30 a.m. and continue until business is concluded on each day.

ADDRESSES: The meeting will be held in the Pacific Room at the Southwest Fisheries Science Center, 8901 La Jolla Shores Drive, La Jolla, CA 92037-1508; phone: (858) 546-7000.

Council address: Pacific Council, 7700 NE Ambassador Place, Suite 101, Portland, OR 97220-1384.

FOR FURTHER INFORMATION CONTACT: Dr. Kit Dahl, Pacific Council; phone: (503) 820-2422.

SUPPLEMENTARY INFORMATION: The purpose of the HMSMT meeting is to respond to Council guidance from its June 2017 meeting on further development of a range of alternatives for authorizing a fishery using deep-set buoy gear. The HMSMT will provide an updated range of alternatives at the Council's September 2017 meeting. The Council is scheduled to adopt the range of alternatives for public review. The HMSMT may also discuss other HMS topics on the Council's September agenda. These topics include final action on Amendment 4 to the HMS Fishery Management Plan, international management issues, review of exempted fishing permit proposals to use deep-set buoy gear, and swordfish management project planning. Although not on the September Council meeting agenda, the HMSMT may also discuss updates to the HMS Stock Assessment and Fishery Evaluation document and HMS-related matters scheduled on future Council agendas.

Although nonemergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2411 at least 10 days prior to the meeting date.

Dated: July 26, 2017.
Tracey L. Thompson,
Acting Deputy Director, Office of Sustainable Fisheries, National Marine Fisheries Service.

[FR Doc. 2017-16033 Filed 7-28-17; 8:45 am]

BILLING CODE 3510-22-P